DEPARTMENT OF ENERGY

Federal Energy Regulatory Commission

[Docket No. ER98-495-013, et al.]

Pacific Gas & Electric Company, et al.; Electric Rate and Corporate Regulation Filings

February 18, 2000.

Take notice that the following filings have been made with the Commission:

1. Pacific Gas and Electric Company

[Docket No. ER98-495-013]

Take notice that on February 15, 2000, Geysers Power Company, LLC (Geysers Power), tendered for filing revised rate sheets amending the terms of the Reliability Must-Run (RMR) Agreements with the California Independent System Operator Corporation (ISO) applicable to the Geysers Main Units and Geysers Units 13 and 16. The revised rate schedules are submitted in compliance with the letter order dated January 31, 2000, approving Geysers Power's settlement with Pacific Gas and Electric Company, the California Electricity Oversight Board and the ISO, 90 FERC ¶ 61,096 (2000).

Comment date: March 7, 2000, in accordance with Standard Paragraph E at the end of this notice.

2. Idaho Power Company

[Docket No. ER99-4560-001]

Take notice that on February 15, 2000, Idaho Power Company, tendered for filing revised service agreements in the above-captioned docket.

Comment date: March 7, 2000, in accordance with Standard Paragraph E at the end of this notice.

3. Central Power and Light Company, West Texas Utilities Company, Public Service Company of Oklahoma, Southwestern Electric Power Company

[Docket No. ER00-317-001]

Take notice that on February 15, 2000, Central Power and Light Company, West Texas Utilities Company, Public Service Company of Oklahoma, and Southwestern Electric Power Company (collectively, the CSW Operating Companies), tendered for filing a refund report pursuant to the Commission's December 16, 1999 order in the above-captioned docket regarding refunds under the CSW Operating Companies' Transmission Coordination Agreement.

A copy of this filing has been served on each person designated on the official service list compiled by the Secretary in this proceeding and on the Arkansas Public Service Commission, the Louisiana Public Service Commission, the Oklahoma Corporation Commission and the Public Utility Commission of Texas.

Comment date: March 7, 2000, in accordance with Standard Paragraph E at the end of this notice.

4. New England Power Pool

[Docket No. ER00-1599-000]

Take notice that on February 15, 2000, the New England Power Pool (NEPOOL) Participants Committee supplemented its February 11, 2000 filing and tendered for filing additional revisions to the Market Rules and Procedures (the Market Rules), which collectively remove from the Market Rules all mention of the Operable Capability Market in accordance with NEPOOL's proposed elimination of that Market as set forth in the Fiftieth Agreement Amending Restated NEPOOL Agreement filed with the Commission on December 30, 1999 in Docket No. ER00-985-000.

The NEPOOL Participants Committee states that copies of these materials were sent to all participants in the New England Power Pool, the New England state governors and regulatory commissions.

Comment date: March 7, 2000, in accordance with Standard Paragraph E at the end of this notice.

5. El Paso SPM Company

[Docket No. ER00-1624-000] (as the successor to Sonat Power Marketing Inc.)

Take notice that on February 15, 2000. El Paso SPM Company (as the successor to Sonat Power Marketing Inc.), tendered for filing Cancellation of Rate Schedule FERC No. 1 (Market'Based Rate Schedule), effective as of August 18, 1995 and filed with the Federal Energy Regulatory Commission by Sonat Power Marketing Inc. (the predecessor in interest to El Paso SPM Company). The rate schedule is being canceled in connection with the consolidation of the power marketing operations of El Paso Energy Corporation into one single entity, El Paso Merchant Energy, L.P.

As El Paso SPM Company has no outstanding trades with any parties, and all potential parties have been notified of the consolidation referenced above, this cancellation does not involve any affected purchasers. Accordingly, notice of the proposed cancellation has not been served upon any party.

Comment date: March 7, 2000, in accordance with Standard Paragraph E at the end of this notice.

6. California Independent System Operator Corporation

[Docket No. ER00-1625-000]

Take notice that the California Independent System Operator Corporation (ISO), on February 15, 2000, tendered for filing Amendment No. 3 to the Participating Generator Agreement between the ISO and the company now known as Reliant Energy Coolwater, LLC. The ISO states that Amendment No. 3 modifies Schedule 3, Section 10.2 (concerning notices) of the Participating Generator Agreement.

The ISO states that this filing has been served upon all parties listed in the official service list in Docket No. ER98-1830-000.

Comment date: March 7, 2000, in accordance with Standard Paragraph E at the end of this notice.

7. Public Service Company of New Mexico

[Docket No. ER00-1626-000]

Take notice that on February 15, 2000, Public Service Company of New Mexico (PNM), tendered for filing an executed service agreement, for short-term firm point-to-point transmission service under the terms of PNMs Open Access Transmission Service Tariff, with Coral Power L.L.C., dated February 8, 2000. PNM's filing is available for public inspection at its offices in Albuquerque, New Mexico.

Comment date: March 7, 2000, in accordance with Standard Paragraph E at the end of this notice.

8. Metropolitan Edison Company

[Docket No. ER00-1628-000]

Take notice that on February 15, 2000, Metropolitan Edison Company (Met-Ed), tendered for filing an amendment to the Interconnection Agreement, dated as of October 15, 1998, by and between AmerGen Energy Company, L.L.C. (AmerGen) and Met-Ed. The amendment consists of new Schedule B, which sets forth a Meeting Charge to be charged to AmerGen under the Interconnection Agreement.

Copies of the filing were served upon AmerGen and regulators in the Commonwealth of Pennsylvania.

Comment date: March 7, 2000, in accordance with Standard Paragraph E at the end of this notice.

9. Montaup Electric Company

[Docket No. ER00-1629-000]

Take notice that on February 15, 2000, Montaup Electric Company (Montaup), tendered for filing a notice of cancellation of its Wholesale Market Tariff, FERC Electric Tariff, Original Volume No. 8, together with a notice of termination of associated service agreements, to be made effective as of May 1, 2000. Montaup states that not withstanding such cancellation and termination, any transaction in effect on May 1, 2000 will not terminate prior to the conclusion of its term. In such cases, the tariff and service agreement will remain in effect until the transaction terminates at the conclusion of such term.

Notice of the cancellation and termination have been served upon the following:

Baltimore Gas & Electric Co. ER99-2804-000

Constellation Power Source, Inc. ER99-3384-000

Duke Solutions, Inc. ER99-2804-000

Enserch Energy Services, Inc R99-2804-000

FPL Energy Power Marketing, Inc. ER99-2804-000

Great Bay Power Corporation ER99-4063-000

New Energy Ventures, Inc. ER99-4063-000

PG&E Energy Trading Power, L.P. ER00-924-000

Reliant Energy Services ER99-4063-000

Comment date: March 7, 2000, in accordance with Standard Paragraph E at the end of this notice.

10. PJM Interconnection, L.L.C.

[Docket No. ER00-1630-000]

Take notice that on February 15, 2000, PJM Interconnection, L.L.C. (PJM), tendered for filing amendments to the PJM Open Access Transmission Tariff and the Amended and Restated Operating Agreement of PJM Interconnection, L.L.C., providing for market-based pricing of Regulation service.

PJM intends to implement the Regulation Market on June 1, 2000, and requests the Commission to act on this filing within 60 days.

Copies of this filing were served upon all PJM Members and the state electric regulatory commissions in the PJM Control Area.

Comment date: March 7, 2000, in accordance with Standard Paragraph E at the end of this notice.

11. Smarr EMC

[Docket No. ER00-1631-000]

Take notice that on February 15, 2000, Smarr EMC, tendered for filing an initial rate schedule pursuant to Section 205 of the Federal Power Act and Section 35.12 of the Commission's Regulations.

This filing consists of the Power Purchase Agreements (Sewell Creek), dated January 1, 2000, between Smarr EMC and each of its thirty-one member distribution cooperatives (the Members) pursuant to which Smarr EMC will sell power and/or energy to those Members.

Smarr EMC is seeking waivers of certain Commission requirements as part of this filing.

Copies of the filing were served upon Altamaha Electric Membership Corporation, Amicalola Electric Membership Corporation, Canoochee Electric Membership Corporation, Carroll Electric Membership Corporation, Central Georgia Electric Membership Corporation, Coastal Electric Membership Corporation, Cobb Electric Membership Corporation, Coweta-Fayette Electric Membership Corporation, Greystone Power Corporation, Habersham Electric Membership Corporation, Hart Electric Membership Corporation, Irwin Electric Membership Corporation, Jackson Electric Membership Corporation, Jefferson Energy Cooperative, Lamar Electric Membership Corporation, Little Ocmulgee Electric Membership Corporation, Middle Georgia Electric Membership Corporation, Mitchell Electric Membership Corporation, Ocmulgee Electric Membership Corporation, Okefenoke Rural Electric Membership Corporation, Pataula Electric Membership Corporation, Planters Electric Membership Corporation, Rayle Electric Membership Corporation, Satilla Rural Electric Membership Corporation, Sawnee Electric Membership Corporation, Slash Pine Electric Membership Corporation, Snapping Shoals Electric Membership Corporation, Sumter Electric Membership Corporation, Troup Electric Membership Corporation, Upson Electric Membership Corporation, and Washington Electric Membership Corporation.

Comment date: March 7, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-4586 Filed 2-25-00; 8:45 am]

BILLING CODE 6717-01-P